DEPARTMENT OF TRANSPORTATION

Federal Highway Administration

Environmental Impact Statement: Bossier, Webster, and Claiborne Parishes, Louisiana and Union and Columbia Counties, Arkansas

AGENCY: Federal Highway Administration (FHWA), DOT.

ACTION: Notice of intent.

SUMMARY: FHWA is issuing this notice to advise the public that an Environmental Impact Statement will be prepared for a proposed Interstate highway project in Bossier, Claiborne, and Webster Parishes, Louisiana and in Union and Columbia Counties, Arkansas.

FOR FURTHER INFORMATION CONTACT: Mr. William Farr, Program Operations Manager, Federal Highway Administration, 5304 Flanders Drive, Suite A, Baton Rouge, Louisiana 70808, Telephone: (225) 757-7615, or Mr. Vincent Russo, Environmental Engineer Administrator, Louisiana Department of Transportation and Development, Post Office Box 94245, Baton Rouge, Louisiana 70804-9245, Telephone: (225) 248-4190, or Mr. Randal Looney, Environmental Specialist, Federal Highway Administration, Federal Office Building, 700 West Capitol Avenue, Room 3130 Little Rock, Arkansas 72201, Telephone: (501) 324-6430 or Mr. Bill Richardson, Asst. Division Head, Environmental Division, Arkansas Highway and Transportation Department, 10324 Interstate 30, Little Rock, Arkansas 72201, Telephone: (501) 569-2379. Project information may be obtained from the project Internet web site at www.i69arkla.com and the project hotline at 1-877-886-9233.

SUPPLEMENTARY INFORMATION: The FHWA, in cooperation with the Louisiana Department of Transportation and Development (DOTD) and the Arkansas Highway and Transportation Department (AHTD), will prepare an Environmental Impact Statement (EIS) on a proposal to construct section of independent utility (SIU) Number 14 for the proposed Interstate Highway 69 (I-69) in Bossier, Webster, and Claiborne Parishes, Louisiana and in Union and Columbia Counties, Arkansas. This proposal will provide a divided four-lane, limited access highway on new location between Interstate Highway 20 (I-20) near the Town of Haughton in Bossier Parish, Louisiana to U.S. Highway 82 (U.S. 82) near the Town of El Dorado in Union County, Arkansas, a distance of approximately 80 miles. The proposed new highway is a portion of the planned improvements to Congressionally-designated High Priority Corridor Numbers 18/20, which will link Indianapolis, Indiana to the Texas/Mexico border. The purpose of this proposal is to improve international and interstate trade in accordance with national and state goals; to facilitate economic development in accordance with state, regional, and local policies and plans; and to improve surface transportation consistent with national, state, regional, and local needs and with the Congressional designation of the corridor.

Social, economic, and environmental considerations will determine the number and location of alternatives to be developed during the preparation of the EIS. The western terminus of the proposed highway will be an interchange at I-20 near the Town of Haughton in Bossier Parish, Louisiana. The eastern terminus of the proposed highway will be an interchange at U.S. 82 near the town of El Dorado in Union County, Arkansas.

Alternatives under consideration include (1) the no build and (2) constructing a four-lane, limited access highway within the limits described above, on various alignment alternatives.

Letters describing the proposed action and soliciting comments will be sent to the appropriate Federal, State, and local agencies, and to private organizations and citizens who have previously expressed or are known to have interest in this proposal. Federal and State agencies with jurisdiction by law with regards to the socials, economic and environmental impact of his proposal will be requested to act as a Cooperating Agency in this matter in accordance with 40 CFR 1501.6. Numerous public involvement initiatives, including public meetings, newsletters, and advisory committee meetings will be held throughout the course of this study. Additionally, a Public Hearing will be held. Public notice will be given, in local newspapers, of the time and place of the meetings and hearing. The Draft EIS will be available for public and agency review prior to the Public Hearing. A formal scoping meeting will be held upon initiation of this project.

Three public scoping meetings will be held with the intent of soliciting public concerns related to issues that should be evaluated in detail in the study. Dates, times and locations of these meetings follow:

• Tuesday, March 25, 2003, 4-7 p.m.: South Arkansas Community College, West Campus Library Auditorium, 3200 Southwest Avenue, El Dorado, Arkansas 71730;

• Wednesday, March 26, 2003, 4-7 p.m.: Claiborne Parish Fair Barn Complex, 1563 Fairgrounds Drive, Haynesville, Louisiana 71038; and

• Thursday, March 27, 2003, 4-7 p.m.: Minden Civic Center Complex Court/Meeting Room, 520 Broadway, Minden, Louisiana 71055.

To ensure that the full range of issues related to this proposal are addressed and all significant issues identified, comments and suggestions are invited from all interested parties. Comments or questions concerning this proposed action and the EIS should be directed to the DOTD at the address above.

(Catalog of Federal Domestic Assistance Program Number 20.205, Highway Research, Planning and Construction. The regulations implementing Executive Order 12372 regarding intergovernmental consultation on Federal programs and activities apply to this program.)
Issued on: February 27, 2003.
Jose Bloise,
Assistant Division Administrator, FHWA.

[FR Doc. 03-5125 Filed 3-5-03; 8:45 am]

BILLING CODE 4910-22-M